DEPARTMENT OF ENERGY

Federal Energy Regulatory Commission

Combined Notice of Filings

Take notice that the Commission has received the following Natural Gas Pipeline Rate and Refund Report filings:

Filings Instituting Proceedings

Docket Numbers: CP23-20-000.

Applicants: Southern Natural Gas Company, L.L.C.

Description: Southern Natural Gas Company, L.L.C. submits Application for Abandonment of Transportation Southern's FERC Gas Tariff, Original Volume 2.

Accession Number: 20221122-5180.

Comment Date: 12/13/22.

Docket Numbers: PR23-11-000.

Applicants: UGI Utilities, Inc.

Description: § 284.123(g) Rate Filing: Rate Election 11-28-2022 to be effective 11/28/2022.

Filed Date: 11/28/22.

Accession Number: 20221128-5075.

Comment Date: 5 p.m. ET 12/19/22.

184.123(g) Protest: 5 p.m. ET 1/27/23.

Docket Numbers: RP23-209-000.

Applicants: Southern Star Central Gas Pipeline, Inc.

Description: § 4(d) Rate Filing: Minimum Fuel and Loss Reimbursement Percentages to be effective 1/1/2023.

Filed Date: 11/28/22.

Accession Number: 20221128-5070.

Comment Date: 5 p.m. ET 12/12/22.

Docket Numbers: RP23-210-000.

Applicants: Tennessee Gas Pipeline Company, L.L.C.

Description: Compliance filing: Cashout Report 2021-2022 to be effective N/A.

Filed Date: 11/29/22.

Accession Number: 20221129-5057.

Comment Date: 5 p.m. ET 12/12/22.

Docket Numbers: RP23-211-000.

Applicants: Dauphin Island Gathering Partners.

Description: § 4(d) Rate Filing: Negotiated Rate Filing 11-29-2022 to be effective 11/29/2022.

Filed Date: 11/29/22.

Accession Number: 20221129-5060.

Comment Date: 5 p.m. ET 12/12/22.

Docket Numbers: RP23-212-000.

Applicants: Southern Natural Gas Company, L.L.C.

Description: § 4(d) Rate Filing: SCRM Filing Nov 22 to be effective 1/1/2023.

Filed Date: 11/29/22.

Accession Number: 20221129-5065.

Comment Date: 5 p.m. ET 12/12/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 29, 2022.
Kimberly D. Bose,
Secretary.

[FR Doc. 2022-26385 Filed 12-2-22; 8:45 am]

BILLING CODE 6717-01-P